DEPARTMENT OF EDUCATION

National Advisory Committee on Institutional Quality and Integrity (NACIQI)

AGENCY: National Advisory Committee on Institutional Quality and Integrity (NACIQI), U.S. Department of Education.

ACTION: Request for nominations to serve on the National Advisory Committee on Institutional Quality and Integrity (NACIQI).

SUMMARY: Per the authorizing legislation for the NACIQI, the Secretary of the U.S. Department of Education (Secretary) is seeking nominations for individuals to serve on the NACIQI.

DATES: Nominations must be received no later than Friday, January 11, 2019.

ADDRESSES: You may submit nominations, including attachments via email to: cmtemgmtoffice@ed.gov (specify in the email subject line “NACIQI Nomination”). For questions, please contact the U. S. Department of Education, Committee Management Office at (202) 401-3677.

SUPPLEMENTARY INFORMATION: NACIQI's Statutory Authority and Function: The NACIQI is established under Section 114 of the HEA, and is composed of 18 members appointed—

(A) On the basis of the individuals' experience, integrity, impartiality, and good judgment;

(B) From among individuals who are representatives of, or knowledgeable concerning, education and training beyond secondary education, representing all sectors and types of institutions of higher education; and

(C) On the basis of the individuals' technical qualifications, professional standing, and demonstrated knowledge in the fields of accreditation and administration of higher education.

The NACIQI meets at least twice a year and advises the Secretary with respect to:

• The establishment and enforcement of the standards of accrediting agencies or associations under subpart 2 of part H of Title IV, HEA.

• The recognition of specific accrediting agencies or associations.

• The preparation and publication of the list of nationally recognized accrediting agencies and associations.

• The eligibility and certification process for institutions of higher education under Title IV of the HEA, together with recommendations for improvements in such process.

• The relationship between (1) accreditation of institutions of higher education and the certification and eligibility of such institutions, and (2) State licensing responsibilities with respect to such institutions.

• Any other advisory functions relating to accreditation and institutional eligibility that the Secretary may prescribe by regulation.

Nomination Process: Interested persons or organizations may nominate qualified individuals. To nominate an individual or yourself for appointment to the NACIQI, please submit the following information to the U.S. Department of Education.

• A cover letter addressed to the Secretary as follows: Honorable Betsy DeVos, Secretary of Education, U.S. Department of Education, 400 Maryland Avenue SW, Washington, DC 20202. In the letter, please state your reason(s) for nominating the individual or yourself;

• A copy of the nominee's or your current resume or curriculum vitae

• Contact information for the nominee (name, title, business address, business phone, and business email address)

In addition, the cover letter must include a statement affirming that the nominee (if you are nominating someone other than yourself) has agreed to be nominated and is willing to serve on the NACIQI if selected. Nominees should be broadly knowledgeable about higher education and accreditation.

Electronic Access to this Document: The official version of this document is published in the Federal Register. Free internet access to the official version of this notice in the Federal Register and the applicable Code of Federal Regulations is available via the Federal Digital System at: www.gpo.gov/fdsys. At this site, you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

Diane Auer Jones,
Principal Deputy Under Secretary Delegated to Perform the Duties of the Under Secretary and Assistant Secretary for the Office of Postsecondary Education, U.S. Department of Education.

[FR Doc. 2018-26879 Filed 12-11-18; 8:45 am]

BILLING CODE P